DEPARTMENT OF TRANSPORTATION

Federal Aviation Administration

14 CFR Part 39

[Docket No. FAA-2012-0189; Directorate Identifier 2011-NM-133-AD]

RIN 2120-AA64

Airworthiness Directives; BAE SYSTEMS (OPERATIONS) LIMITED Airplanes

AGENCY: Federal Aviation Administration (FAA), DOT.

ACTION: Notice of proposed rulemaking (NPRM).

SUMMARY: We propose to adopt a new airworthiness directive (AD) for certain BAE SYSTEMS (OPERATIONS) LIMITED Model BAe 146 and Avro 146-RJ airplanes. This proposed AD was prompted by a report of a crack found on the left-hand sidewall well on the nose landing gear (NLG). This proposed AD would require performing a repetitive high frequency eddy current inspection of the stiffeners on the left-hand sidewall on the NLG gear bay for cracks, and repair or replace the sidewall if necessary. Replacing the sidewall with a certain sidewall part number constitutes a terminating action for the repetitive inspections. We are proposing this AD to detect and correct failure of the sidewall, which could result in consequent in-flight rapid decompression of the cabin and injury to the passengers.

DATES: We must receive comments on this proposed AD by April 20, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact BAE SYSTEMS (OPERATIONS) LIMITED, Customer Information Department, Prestwick International Airport, Ayrshire, KA9 2RW, Scotland, United Kingdom; telephone +44 1292 675207; fax +44 1292 675704; email RApublications@baesystems.com; Internet http://www.baesystems.com/Businesses/RegionalAircraft/index.htm. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2012-0189; Directorate Identifier 2011-NM-133-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0097, dated May 25, 2011 (referred to after this as “the MCAI”), to correct an unsafe condition for the specified products. The MCAI states:

During accomplishment of EASA AD 2007-0305 on an Avro 146-RJ85, a corner crack was found on the left hand Nose Landing Gear (NLG) sidewall well. The crack was located on one of the sidewall stiffeners adjacent to the area being inspected. In this instance, the cracking was severe enough to warrant replacement of the sidewall. Analysis has shown that these types of cracks are likely to exist or develop in other aeroplanes of the same design.

This condition, if not detected and corrected, could result in failure of the sidewall and consequent in-flight rapid decompression of the cabin and injury to its occupants.

For the reasons described above, this [EASA] AD requires repetitive [high frequency eddy current] inspections of the stiffeners [for cracks] on the left hand NLG sidewall. This [EASA] AD also introduces an optional terminating action for the repetitive inspections.

The corrective actions include repairing or replacing the sidewall with a new sidewall. You may obtain further information by examining the MCAI in the AD docket.

Relevant Service Information

BAE SYSTEMS (OPERATIONS) LIMITED has issued Inspection Service Bulletin ISB.53-229, Revision 1, dated November 22, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

This proposed AD specifies not installing certain sidewalls after the installation of a new sidewall is done. This proposed AD does not allow installation of certain sidewalls as of the effective date of this proposed AD.

Costs of Compliance

Based on the service information, we estimate that this proposed AD would affect about 1 product of U.S. registry. We also estimate that it would take about 2 work-hours per product to comply with the basic requirements of this proposed AD. The average labor rate is $85 per work-hour. Based on these figures, we estimate the cost of the proposed AD on U.S. operators to be $170.

In addition, we estimate that any necessary follow-on actions would take about 2 work-hours and require parts costing $8,850, for a cost of $9,020 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE SYSTEMS (OPERATIONS) LIMITED: Docket No. FAA-2012-0189; Directorate Identifier 2011-NM-133-AD.

(a) Comments Due Date

We must receive comments by April 20, 2012.

(b) Affected ADs

None.

(c) Applicability

This AD applies to BAE SYSTEMS (OPERATIONS) LIMITED Model BAe 146-100A, -200A, and -300A airplanes; and Model Avro 146-RJ70A, 146-RJ85A, and 146-RJ100A airplanes; certificated in any category; all serial numbers; on which the left-hand sidewall of the nose landing gear (NLG) bay has one of the following part numbers installed: HC537L0002-000, -002, and -004, HC537H8021-000, -002, and -004, and HC537H8018-000.

(d) Subject

Air Transport Association (ATA) of America Code 53: Fuselage.

(e) Reason

This AD was prompted by a report of a crack found on the left-hand sidewall well on the NLG. We are issuing this AD to correct and detect failure of the sidewall, which could result in consequent in-flight rapid decompression of the cabin and injury to the passengers.

(f) Compliance

You are responsible for having the actions required by this AD performed within the compliance times specified, unless the actions have already been done.

(g) Inspection

Before the accumulation of 12,000 total flight cycles or within 4,000 flight cycles after the effective date of this AD, whichever occurs later: Perform a high frequency eddy current inspection of the stiffeners on the left-hand sidewall on the NLG gear bay adjacent to the boss at the NLG retraction jack attachment pin hole, in accordance with the Accomplishment Instructions of BAE SYSTEMS (OPERATIONS) LIMITED Inspection Service Bulletin ISB.53-229, Revision 1, dated November 22, 2010. Repeat the inspection thereafter at intervals not to exceed 12,000 flight cycles, except as provided in paragraph (i) of this AD.

(h) Repair

If, during any inspection required by paragraph (g) of this AD, any crack is found in the sidewall stiffeners, before further flight repair the sidewall stiffeners, using a method approved by either the Manager, International Branch, ANM 116, Transport Airplane Directorate, FAA; or the EASA (or its delegated agent); or do the replacement specified in paragraph (i) of this AD.

(i) Optional Replacement

Replacement of the sidewall stiffeners, with sidewall P/N HC537L0002-006, on any airplane, in accordance with the Accomplishment Instructions of BAE SYSTEMS (OPERATIONS) LIMITED Inspection Service Bulletin ISB.53-229, Revision 1, dated November 22, 2010, terminates the repetitive inspections required by paragraph (g) of this AD.

(j) Parts Installation

As of the effective date of this AD: No person may install a sidewall stiffener with P/N HC537L0002-000, -002, or -004, HC537H8021-000, -002, or -004, or HC537H8018-000, on any airplane.

(k) Credit for Previous Actions

This paragraph provides credit for inspections and replacements, as specified in paragraphs (g) and (i) of this AD, if those actions were performed before the effective date of this AD using BAE SYSTEMS (OPERATIONS) LIMITED Inspection Service Bulletin ISB.53-229, dated July 8, 2010.

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, Washington 98057-3356; telephone (425) 227-1175; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI EASA Airworthiness Directive 2011-0097, dated May 25, 2011; and BAE SYSTEMS (OPERATIONS) LIMITED Inspection Service Bulletin ISB.53-229, Revision 1, dated November 22, 2010; for related information.

Issued in Renton, Washington, on February 27, 2012.
Kalene C. Yanamura,
Acting Manager, Transport Airplane Directorate, Aircraft Certification Service.

[FR Doc. 2012-5380 Filed 3-5-12; 8:45 am]

BILLING CODE 4910-13-P